DEPARTMENT OF ENERGY

Federal Energy Regulatory Commission

[Docket No. OR13-5-000]

Kinder Morgan Pony Express Pipeline LLC, Hiland Crude, LLC; Notice of Petition For Declaratory Order

Take notice that on October 19, 2012, pursuant to Rule 207(a)(2) of the Commission's Rules of Practices and Procedure, 18 CFR 385.207(a)(2)(2012), Kinder Morgan Pony Express Pipeline LLC and Hiland Crude, LLC, filed a petition seeking a declaratory order approving the specified rate structures, services and prorationing terms, as described in filing.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Comment Date: 5:00 p.m. Eastern time on Tuesday, November 13, 2012.

Dated: October 23, 2012.
Nathaniel J. Davis, Sr.,
Deputy Secretary.

[FR Doc. 2012-26751 Filed 10-30-12; 8:45 am]

BILLING CODE 6717-01-P